DEPARTMENT OF HOUSING AND URBAN DEVELOPMENT

[Docket No. FR 7034-N-01]

30-Day Notice of Proposed Information Collection: Moving to Work (MTW) Form 50900: Elements for the Annual Moving to Work Plan and Annual Moving to Work Report PMB OMB Control No.: 2577-0216

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: February 16, 2021.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Colette Pollard, Reports Management Officer, QDAM, Department of Housing and Urban Development, 451 7th Street SW, Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on September 4, 2020 at 85 FR 55312.

A. Overview of Information Collection

Title of Information Collection: Moving to Work (MTW) Demonstration.

OMB Approval Number: 2577-0216.

Type of Request: Revision of currently approved collection.

Form Number(s): HUD 50900.

Description of the need for the information and proposed use: Under the provisions of Section 3507(a)(1)(D) of the Paperwork Reduction Act of 1995, the Department of Housing and Urban Development (HUD) has submitted to the Office of Management and Budget (OMB) a request to review and approve the information collection listed below. All public housing authorities (PHA) are required to submit a five (5) year plan and annual plans as stated in Section 5A of the 1937 Act, as amended; however, the 39 legacy MTW PHAs with a Standard MTW Agreement must submit an Annual MTW Plan and Annual MTW Report (Form 50900) in lieu of the standard PHA plan documents.

The MTW Demonstration was authorized under Section 204 of the Omnibus Consolidated Rescissions and Appropriations Act of 1996 (Pub. L. 104-134, 110 Stat 1321), dated April 26, 1996. The original MTW Demonstration statute permitted up to 30 PHAs to participate in the demonstration program. Nineteen PHAs were selected for participation in the MTW demonstration in response to a HUD Notice, published in the Federal Register on December 18, 1996, and five of the 30 slots were filled through the Jobs-Plus Community Response Initiative.

Additional MTW `slots' have been added by Congress over time through appropriations statutes. Two PHAs were specifically named and authorized to join the demonstration in 1999 under the VA, HUD, and Independent Agencies Appropriations Act of 1999 (Pub. L. 105-276, 112 Stat. 2461), dated October 21, 1998. A Public and Indian Housing Notice (PIH Notice 2000-52) issued December 13, 2000 allowed up to an additional 6 PHAs to participate in the MTW demonstration. The Consolidated Appropriations Act, 2008 (Pub. L. 110-161, 121 Stat. 1844) added four named PHAs to the Moving to Work demonstration program.

Subsequent appropriations acts for 2009, 2010, and 2011 authorized a total of 12 additional MTW slots. As part of HUD's 2009 budget appropriation (Section 236, title II, division I of the Omnibus Appropriations Act, 2009, enacted March 11, 2009), Congress directed HUD to add three agencies to the MTW program. As part of HUD's 2010 budget appropriation (Section 232, title II, division A of the Consolidated Appropriations Act, 2010, enacted December 16, 2009), Congress authorized HUD to add three agencies to the MTW demonstration. In 2011, Congress again authorized HUD to add three MTW PHAs pursuant to the 2010 Congressional requirements.

A Standard MTW Agreement (Standard Agreement) was developed in 2007 and was transmitted to the MTW PHAs, in January 2008. As additional MTW PHAs were selected, they too were provided with the Standard Agreement. As established by the Consolidated Appropriations Act, 2016, all 39 legacy MTW PHAs continue to operate under the Standard Agreement, which was extended to 2028.

MTW agencies have the flexibility to apply fungibility across three core funding programs' funding streams—public housing Operating Funds, public housing Capital Funds, and HCV assistance (to include both HAP and Administrative Fees)—hereinafter referred to as “MTW Funding.” Also, the 39 legacy MTW PHAs are required to submit an MTW Annual Plan and an MTW Annual Report in accordance with their MTW Agreement, in lieu of the regular PHA annual and 5-year plans.

Through the MTW Annual Plan and Report, each legacy MTW PHA will inform HUD, its residents and the public of the PHA's mission and strategy for serving the needs of low-income and very low-income families. The Annual MTW Plan, like the PHA Annual Plan, provides an easily identifiable source by which residents, participants in tenant-based programs, and other members of the public may locate policies, rules, and requirements concerning the PHA's operations, programs, and services. Revisions are being made to this Form 50900 to improve its usability and to address minor issues identified by HUD and the 39 legacy MTW PHAs over time, including the following:

1. Simplification of information submitted annually by the PHA.

2. Clarification and reimagining of the information to be reported, annually, that will lead to the ability to “tell the story” of the Moving to Work demonstration as a whole.

3. Addition of language regarding unspent Operating and Voucher Reserves to increase the transparency locally and the planned use of the funds.

4. Support and increase local communities' knowledge and understanding of the MTW Program by requiring the inclusion of the PHA's Hardship Policy as an appendix to the MTW Annual Plan.

This proposed information collection was previously published in the Federal Register on October 9, 2020 (FR 7028-N-06) and allowed 60-days for public comment. The purpose of this 30-day notice is to respond to public comments received during the 60-day public comment period on Form 50900 and to allow for the 30-day public comment period for same, Form 50900.

Respondents (i.e. affected public): The respondents to this PRA are the 39 legacy Public Housing Authorities (PHAs) that had MTW designation as of December 15, 2015.

Estimated Number of Respondents: 39.

Estimated Number of Responses: There are 78 submissions per year, reflecting the 39 PHAs. Each submission is comprised of 7 sections each requiring a response. All 7 sections are completed with the first annual submission (Plan), and 5 of the 7 sections are completed with the second annual submission (Report). This results in a total of 2 submissions per PHA, across all 39 affected PHAs or 78 total responses, that include 468 sections.

Average Hours per Response: 60 hours.

Total Estimated Burdens: $261,799.20.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority: Section 3507 of the Paperwork Reduction Act of 1995, 44 U.S.C. Chapter 35.

D. Overview of Significant Changes Made to the HUD-50900

The HUD-50900 has been updated to reflect the public comments received during the 60-day Federal Register public comment period. These updates include removing the proposed performance metrics and reinserting the previous standard metrics, requiring the inclusion of an

MTW PHAs hardship policy and the inclusion of additional financial information for programmatic reporting purposes. A copy of the revised draft HUD-50900 can be obtained per the information provided earlier in this notice under “For further information.”

Colette Pollard,
Department Reports Management Officer, Office of the Chief Information Officer.

[FR Doc. 2021-00801 Filed 1-14-21; 8:45 am]

BILLING CODE 4210-67-P